DEPARTMENT OF HEALTH AND HUMAN SERVICES

Opportunity for Cosponsorship of the President's Challenge Physical Activity and Fitness Awards Program; Correction

AGENCY: Department of Health and Human Services, Office of the Secretary, Office of Public Health and Science, Office of the President's Council on Physical Fitness and Sports.

ACTION: Notice; correction.

SUMMARY: The Office of the President's Council on Physical Fitness and Sports (PCPFS) published a document in the Federal Register of March 25, 2003, announcing the opportunity for both non-Federal public and private sector entities to cosponsor activities related to the President's Challenge Physical Activity and Fitness Awards Program. The document contained incorrect dates.

FOR FURTHER INFORMATION CONTACT: Christine Spain, (202) 690-5148.

Correction

In the Federal Register of March 25, 2003, in FR Doc. 03-7033, on page 14420, in the first column, correct the DATES caption to read:

DATES: To receive consideration, a request to participate as a cosponsor must be received by the close of business on May 20, 2003, at the address listed. Requests will meet the deadline if they are either (1) received on or before the deadline date; or (2) postmarked on or before the deadline date. Private metered postmarks will not be acceptable as proof of timely mailing. Hand-delivered requests must be received by 5 p.m. Requests that are received after the deadline date will be returned to the sender.

Dated: April 2, 2003.
Penelope Royall,
Acting Executive Director, President's Council on Physical Fitness and Sports, Department of Health and Human Services.

[FR Doc. 03-8374 Filed 4-4-03; 8:45 am]

BILLING CODE 4150-35-P